DEPARTMENT OF ENERGY

Federal Energy Regulatory Commission

[Docket No. CP09-418-000]

Perryville Gas Storage, LLC; Notice of Availability of the Environmental Assessment for the Proposed Crowville Salt Dome Storage Project

October 23, 2009.

The staff of the Federal Energy Regulatory Commission (FERC or Commission) has prepared this environmental assessment (EA) for the natural gas storage and transmission facilities proposed by the Perryville Gas Storage, LLC (Perryville) in the above-referenced docket.

The EA was prepared to satisfy the requirements of the National Environmental Policy Act (NEPA). The FERC staff concludes that approval of the proposed project, with appropriate mitigating measures, would not constitute a major Federal action significantly affecting the quality of the human environment.

The EA assesses the potential environmental impacts resulting from construction and operation of Perryville's proposed Crowville Salt Dome Storage Project (Project). Perryville proposes to construct, own and operate; two new natural gas storage caverns; 2.68 miles of 24-inch-diameter natural gas transmission pipeline; 11.69 miles of 36-inch-diameter natural gas transmission pipeline; one 9,500 horsepower compressor station; and, related facilities in Franklin and Richland Parishes, Louisiana. The purpose of the project is to provide natural gas storage capacity to interstate shippers of natural gas.

The EA has been placed in the public files of the FERC. A limited number of copies of the EA are available for distribution and public inspection at: Federal Energy Regulatory Commission, Public Reference Room, 888 First Street, NE., Room 2A, Washington, DC 20426, (202) 502-8371.

Copies of this EA have been mailed to the appropriate Federal, State, and local agencies; public interest groups; interested individuals and affected landowners; Native American tribes; newspapers and libraries; parties to this proceeding; and those who have expressed an interest in this project by responding to the Commission's Notice of Intent to Prepare an Environmental Assessment for the Proposed Crowville Salt Dome Storage Project and Request for Comments on Environmental Issues, and Notice of Public Scoping Meeting and Site Visit, issued on June 26, 2009.

Any person wishing to comment on the EA may do so. To ensure consideration prior to a Commission decision on the proposal, it is important that we receive your comments by the date specified below.

Your comments should focus on the potential environmental effects, reasonable alternatives, and measures to avoid or lessen environmental impacts. The more specific your comments, the more useful they will be. To ensure that your comments are timely and properly recorded, please send in your comments so that they will be received in Washington, DC on or before November 24, 2009.

For your convenience, there are three methods in which you can use to submit your comments to the Commission. In all instances please reference the Project docket number CP09-418-000 with your submission. The Commission encourages electronic filing of comments and has dedicated eFiling expert available staff to assist you at (202) 502-8258 or efiling@ferc.gov.

(1) You may file your comments electronically by using the Quick Comment feature, which is located on the Commission's Internet Web site at http://www.ferc.gov under the link to Documents and Filings. A Quick Comment is an easy method for interested persons to submit text-only comments on a project;

(2) You may file your comments electronically by using the eFiling feature, which is located on the Commission's Internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing;” or

(3) You may file your comments via mail to the Commission by sending an original and two copies of your letter to: Kimberly D. Bose, Secretary, Federal Energy Regulatory Commission, 888 First St., NE., Room 1A, Washington, DC 20426;

If you choose the option to mail your comments, label one copy of the comments for the attention of Gas Branch 2, PJ11.2.

Your comments will be considered by the Commission, but simply filing comments will not serve to make the commentor a party to the proceeding. Any person seeking to become a party to the proceeding must file a motion to intervene pursuant to Rule 214 of the Commission's Rules of Practice and Procedures (18 CFR 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the project is available from the Commission's Office of External Affairs, at (866) 208-FERC or on the Commission's Internet Web site (http://www.ferc.gov) using the eLibrary link. Click on the eLibrary link, click on “General Search” and enter the docket number excluding the last three digits in the Docket Number field (i.e., CP09-418). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission now offers a free service called eSubscription (http://www.ferc.gov/esubscribenow.htm) which allows you to keep track of all formal issuances and submittals in specific dockets. This can reduce the amount of time you spend researching proceedings by automatically providing you with notification of these filings, document summaries and direct links to the documents. To register for this service, go to the eSubcription link on the FERC Internet Web site (http://www.ferc.gov/esubscribenow.htm).

Kimberly D. Bose,
Secretary.

[FR Doc. E9-26244 Filed 10-30-09; 8:45 am]

BILLING CODE 6717-01-P